ENVIRONMENTAL PROTECTION AGENCY

[FRL 9961-47-OARM]

Good Neighbor Environmental Board

AGENCY: Environmental Protection Agency (EPA).

ACTION: Notice of Federal Advisory Committee Teleconference Meeting.

SUMMARY: Pursuant to the Federal Advisory Committee Act, Public Law 92-463, notice is hereby given that the Good Neighbor Environmental Board will hold a public teleconference meeting on Thursday, May 11, 2017. The meeting is open to the public.

DATES: The Good Neighbor Environmental Board will hold an open teleconference meeting on Thursday, May 11, 2017 from 12 p.m. to 4:00 p.m. EDT.

Purpose of Meeting: The purpose of this meeting is to discuss the Board's next report, which is examining environmental protection and security issues in the U.S.—Mexico border region.

General Information: The agenda for the teleconference will be available at http://www2.epa.gov/faca/gneb. General information about the Board can be found on its Web site at http://www2.epa.gov/faca/gneb. If you wish to make oral comments or submit written comments to the Board, please contact Mark Joyce at least five days prior to the meeting. Written comments should be submitted to Mark Joyce at joyce.mark@epa.gov.

Meeting Access: For information on access or services for individuals with disabilities, please contact Mark Joyce at (202) 564-2130 or email at joyce.mark@epa.gov. To request accommodation of a disability, please contact Mark Joyce at least 10 days prior to the meeting to give EPA as much time as possible to process your request.

Dated: April 3, 2017.
Mark Joyce,
Acting Designated Federal Officer.

[FR Doc. 2017-07813 Filed 4-17-17; 8:45 am]

BILLING CODE 6560-50-P